DEPARTMENT OF DEFENSE

Office of the Secretary

Board of Visitors Meeting

AGENCY: Department of Defense, Defense Acquisition University.

ACTION:

Board of Visitors Meeting.

SUMMARY: The next meeting of the Defense Acquisition University (DAU) Board of Visitors (BoV) will be held at Defense Acquisition University South Region, Huntsville, AL. The purpose of this meeting is to report back to the BoV on continuing items of interest.

DATES: May 20, 2009 from 0900-1500.

ADDRESSES: Defense Acquisition University, 6767 Old Madison Pike, Building 7, Huntsville, AL 35806.

FOR FURTHER INFORMATION CONTACT: Ms. Christen Goulding at 703-805-5134.

SUPPLEMENTARY INFORMATION: The meeting is open to the public; however, because of space limitations, allocation of seating will be made on a first-come, first served basis. Persons desiring to attend the meeting should call Ms. Christen Goulding at 703-805-5134.

Dated: May 5, 2009.
Patricia L. Toppings,
OSD Federal Register Liaison Officer, Department of Defense.

[FR Doc. E9-10709 Filed 5-7-09; 8:45 am]

BILLING CODE 5001-06-P